DEPARTMENT OF THE TREASURY

Office of the Comptroller of the Currency

FEDERAL DEPOSIT INSURANCE CORPORATION

DEPARTMENT OF THE TREASURY

Office of Thrift Supervision

Agency Information Collection Activities: Proposed Collection Renewals; Comment Request

AGENCIES: Office of the Comptroller of the Currency (OCC), Treasury; Federal Deposit Insurance Corporation (FDIC); and Office of Thrift Supervision (OTS), Treasury.

ACTION: Notice and request for comment.

SUMMARY: The FDIC, OCC, and OTS (Agencies), as part of their continuing efforts to reduce paperwork and respondent burden, invite the general public and other federal agencies to take this opportunity to comment on a continuing information collection titled “Affiliate Marketing/Consumer Opt-Out Notices,” as required by the Paperwork Reduction Act of 1995 (44 U.S.C. chapter 35). OMB Control numbers for this collection are 3064-0149 (FDIC), 1557-0230 (OCC), and 1550-0112 (OTS).

DATES: Comments must be submitted on or before August 17, 2007.

ADDRESSES: Interested parties are invited to submit written comments by any of the following methods. All comments should refer to the name and number of the collection:

OCC

Communications Division, Office of the Comptroller of the Currency, Public Information Room, Mailstop 1-5, Attention: 1557-0230, 250 E Street, SW., Washington, DC 20219. In addition, comments may be sent by fax to (202) 874-4448, or by electronic mail to regs.comments@occ.treas.gov. You can inspect and photocopy the comments at the OCC's Public Information Room, 250 E Street, SW., Washington, DC 20219. You can make an appointment to inspect the comments by calling (202) 874-5043.

FDIC

• http://www.FDIC.gov/regulations/laws/federal/propose.html.

• E-mail: comments@fdic.gov. Include the name and number of the collection in the subject line of the message.

• Mail: Steve Hanft (202-898-3907), Clearance Officer, Federal Deposit Insurance Corporation, 550 17th Street, NW., Washington, DC 20429.

• Hand Delivery: Comments may be hand-delivered to the guard station at the rear of the 550 17th Street Building (located on F Street), on business days between 7 a.m. and 5 p.m.

OTS

You may submit comments, identified by “1550-0112,” by any of the following methods:

• E-mail address: infocollection.comments@ots.treas.gov. Please include “1550-0112” in the subject line of the message and include your name and telephone number in the message.

• Fax: (202) 906-6518.

• Mail: Information Collection Comments, Chief Counsel's Office, Office of Thrift Supervision, 1700 G Street, NW., Washington, DC 20552, Attention: “1550-0112.”

• Hand Delivery/Courier: Guard's Desk, East Lobby Entrance, 1700 G Street, NW., from 9 a.m. to 4 p.m. on business days, Attention: Information Collection Comments, Chief Counsel's Office, Attention: “1550-0112.”

Instructions: All submissions received must include the agency name and OMB Control Number for this information collection. All comments received will be posted without change to the OTS Internet Site at http://www.ots.treas.gov/pagehtml.cfm?catNumber=67&an=1, including any personal information provided.

Docket: For access to the docket to read background documents or comments received, go to http://www.ots.treas.gov/pagehtml.cfm?catNumber=67&an=1.

In addition, you may inspect comments at the Public Reading Room, 1700 G Street, NW., by appointment. To make an appointment for access, call (202) 906-5922, send an e-mail to public.info@ots.treas.gov, or send a facsimile transmission to (202) 906-7755. (Prior notice identifying the materials you will be requesting will assist us in serving you.) We schedule appointments on business days between 10 a.m. and 4 p.m. In most cases, appointments will be available the next business day following the date we receive a request.

A copy of the comments may also be submitted to the OMB Desk Officer for the Agencies, Office of Information and Regulatory Affairs, Office of Management and Budget, New Executive Office Building, Washington, DC 20503.

FOR FURTHER INFORMATION CONTACT: FDIC—Steve Hanft (address above).

OCC—You may request additional information or a copy of the collection and supporting documentation submitted to OMB by contacting: Mary Gottlieb or Camille Dickerson, (202) 874-5090, Legislative and Regulatory Activities Division, Office of the Comptroller of the Currency, 250 E Street, SW., Washington, DC 20219. OTS: Marilyn K. Burton, OTS Clearance Officer, at marilyn.burton@ots.treas.gov, (202) 906-6467, or facsimile number (202) 906-6518, Litigation Division, Chief Counsel's Office, Office of Thrift Supervision, 1700 G Street, NW., Washington, DC 20552.

SUPPLEMENTARY INFORMATION: Title: Affiliate Marketing/Consumer Opt-Out Notices.

OMB Number: FDIC, 3064-0149; OCC, 1557-0230; OTS, 1550-0112.

Frequency of Response: On occasion.

Affected Public: Insured financial institutions and their customers.

Estimated Number of Respondents: FDIC—5,236 institutions, 1,088,850 customers; OCC—1,800 institutions, 996,625 customers; OTS—838 institutions, 221,550 customers.

Estimated Time per Response: 18 hours per institution; 5 minutes per customer.

Total Annual Burden: FDIC, 184,623 hours; OCC, 115,452 hours; OTS, 33,546.50 hours.

General Description of Collection: Section 624 of the Fair Credit Reporting Act generally provides that, if a person shares certain information about a consumer with an affiliate, the affiliate may not use that information to make or send solicitations to the consumer about its products or services, unless the consumer is given notice and a reasonable opportunity to opt out of such use of the information and the consumer does not opt out. The information collections for which the Agencies seek OMB approval are (1) Notices to consumers of the opportunity to opt-out of solicitations from affiliates, and (2) consumer responses to the opt-out notices.

Request for Comment

Comments are invited on: (a) Whether this collection of information is necessary for the proper performance of the Agencies' functions, including whether the information has practical utility; (b) the accuracy of the estimates of the burden of the information collection, including the validity of the methodology and assumptions used; (c) ways to enhance the quality, utility, and clarity of the information to be collected; (d) ways to minimize the burden of the information collections on respondents, including through the use of automated collection techniques or other forms of information technology; and (e) estimates of capital or start up costs, and costs of operation, maintenance, and purchase of services to provide the information.

At the end of the comment period, the comments and recommendations received will be analyzed to determine the extent to which the collection should be modified prior to submission to OMB for review and approval. Comments submitted in response to this notice also will be summarized or included in the Agencies' requests to OMB for renewal of this collection. All comments will become a matter of public record.

Dated: June 4, 2007.
Stuart Feldstein,
Assistant Director, Legislative and Regulatory Activities Division, Office of the Comptroller of the Currency.
Dated at Washington, DC, this 6th day of June, 2007.
Federal Deposit Insurance Corporation.
Robert E. Feldman,
Executive Secretary.
Dated: June 12, 2007.
Deborah Dakin,
Senior Deputy Chief Counsel, Regulations and Legislation Division, Office of Thrift Supervision.

[FR Doc. 07-2989 Filed 6-15-07; 8:45 am]

BILLING CODE 4810-33-P